NATIONAL FOUNDATION ON THE ARTS AND THE HUMANITIES

Institute of Museum and Library Services

Submission for OMB Review, Comment Request, Proposed Collection: IMLS Grants to States Program State Reporting System, Including Site Visit Checklist

AGENCY: Institute of Museum and Library Services, National Foundation on the Arts and the Humanities.

ACTION: Submission for OMB Review, request for comments, collection of information.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the IMLS Grants to States Program State Reporting System, Including Site Visit Checklist. A copy of the proposed information collection request can be obtained by contacting the individual listed below in the FOR FURTHER INFORMATION CONTACT section of this Notice.

DATES: Written comments must be submitted to the office listed in the ADDRESSES section below on or before September 02, 2022.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Teresa DeVoe, Associate Deputy Director of State Programs, Office of Library Services, Institute of Museum and Library Services, 955 L'Enfant Plaza North SW, Suite 4000, Washington, DC 20024-2135. Ms. DeVoe can be reached by telephone at 202-653-4778, or by email at tdevoe@imls.gov. Persons who are deaf or hard of hearing (TTY users) may contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This notice proposes the clearance of the IMLS Grants to States Program State Reporting System, Including Site Visit Checklist. The Grants to States program is the largest source of Federal funding support for library services in the U.S. Using a population-based formula, more than $160 million is distributed among the State Library Administrative Agencies (SLAAs) every year. SLAAs are official agencies charged by the Library Services and Technology Act (20 U.S.C. 9121 and 20 U.S.C. 9141) with the extension and development of library services, and they are located in each of the 50 States of the United States, the District of Columbia, the five Territories of Guam, American Samoa, the Commonwealth of Puerto Rico, the Commonwealth of the Northern Mariana Islands, and the U.S. Virgin Islands, and the three Freely Associated States of Federated States of Micronesia, Republic of Palau, and the Republic of the Marshall Islands.

Each State Library Administrative Agency (SLAA) is required, under 20 U.S.C. 9101 et seq. (in particular 20 U.S.C. 9134), to submit a plan that details library services goals for a five-year period, along with associated certifications. Pursuant to 20 U.S.C. 9134 (c), each SLAA that receives an IMLS grant under the Grants to States program is required to evaluate and report on all funded project activities to IMLS, prior to the end of the execution of its five-year plan. Each SLAA receives IMLS funding to support activities for the five-year period through a series of overlapping two-year grant awards. Each SLAA must file interim and final financial reports, and final performance reports for each of these two-year grants through IMLS's State Program Report (SPR) system. This action is to incorporate a Site Visit Checklist as a stand-alone form in the SPR system, which has an OMB Control Number of 3137-0071, expiring 8/31/2024. The 60-day Notice was published in the Federal Register on May 3, 2022 (87 FR 26231). The agency has taken into consideration the one comment that was received under this notice.

Agency: Institute of Museum and Library Services.

Title: IMLS Grants to States Program State Reporting System, Including Site Visit Checklist.

OMB Number: 3137-0071.

Agency Number: 3137.

Affected Public: State Library Administrative Agencies.

Total Number of Respondents: 59.

Frequency of Response: Annually for the State Program Report, once every five years for the Site Visit Checklist.

Average Hours per Response: 47.83 hours for the State Program Report (annually), 20 hours for the Site Visit Checklist (once every five years).

Total Burden Hours: 2,822.

Total Annualized capital/startup costs: n/a.

Total Annual Cost Burden: $87,086.

Total Annual Federal Costs: $40,377.

Dated: July 29, 2022.
Suzanne Mbollo,
Grants Management Specialist, Institute of Museum and Library Services.

[FR Doc. 2022-16621 Filed 8-2-22; 8:45 am]

BILLING CODE 7036-01-P